DEPARTMENT OF COMMERCE

International Trade Administration

[A-552-823, C-552-824]

Laminated Woven Sacks From the Socialist Republic of Vietnam: Antidumping Duty and Countervailing Duty Orders

AGENCY: Enforcement and Compliance, International Trade Administration, Department of Commerce.

SUMMARY: Based on affirmative final determinations by the Department of Commerce (Commerce) and the International Trade Commission (ITC), Commerce is issuing the antidumping duty (AD) and countervailing duty (CVD) orders on laminated woven sacks (LWS) from the Socialist Republic of Vietnam (Vietnam).

DATES: Applicable June 4, 2019.

FOR FURTHER INFORMATION CONTACT: Drew Jackson (AD order), Celeste Chen (AD order), Thomas Martin (CVD order), or Ariela Garvett (CVD order), AD/CVD Operations, Office IV, Enforcement and Compliance, International Trade Administration, U.S. Department of Commerce, 1401 Constitution Avenue NW, Washington, DC 20230; telephone: (202) 482-4406, (202) 482-0890, (202) 482-3936, or (202) 482-3609, respectively.

SUPPLEMENTARY INFORMATION:

Background

In accordance with sections 705(d) and 735(d) of the Tariff Act of 1930, as amended (the Act), on April 11, 2019, Commerce published its affirmative final determination of sales at less-than-fair-value (LTFV) and its affirmative final determination that countervailable subsidies are being provided to producers and exporters of LWS from Vietnam.¹ On May 23, 2019, the ITC notified Commerce of its final affirmative determination that an industry in the United States is materially injured by reason of LTFV imports and subsidized imports of LWS from Vietnam, within the meaning of sections 705(b)(1)(A)(i) and 735(b)(1)(A)(i) of the Act.²

¹ See Laminated Woven Sacks from the Socialist Republic of Vietnam: Final Determination of Sales at Less Than Fair Value, 84 FR 14651 (April 11, 2019) (LTFV Final Determination); see also Laminated Woven Sacks from the Socialist Republic of Vietnam: Final Affirmative Countervailing Duty Determination, 84 FR 14647 (April 11, 2019) (CVD Final Determination).

² See Letter to the Honorable Jeffrey Kessler, Assistant Secretary of Commerce for Enforcement and Compliance, from David S. Johanson, Chairman of the U.S. International Trade Commission, regarding antidumping and countervailing duty investigations concerning imports of laminated woven sacks from Vietnam (Investigation Nos. 701-TA-601 and 731-TA-1411 (Final)), dated May 23, 2019 (ITC Notification).

Scope of the Orders

The products covered by these orders are LWS from Vietnam. For a complete description of the scope of the orders, see the Appendix to this notice.

AD Order

On May 23, 2019, in accordance with section 735(d) of the Act, the ITC notified Commerce of its final determination that an industry in the United States is materially injured within the meaning of section 735(b)(1)(A)(i) of the Act by reason of imports of LWS from Vietnam that are sold in the United States at LTFV.³ Therefore, in accordance with section 735(c)(2) of the Act, we are issuing this AD order. Because the ITC determined that imports of LWS from Vietnam are materially injuring a U.S. industry, unliquidated entries of such merchandise from Vietnam, entered or withdrawn from warehouse for consumption, are subject to the assessment of antidumping duties, as described below.

³ Id.

As a result of the ITC's final determination, in accordance with section 736(a)(1) of the Act, Commerce will direct U.S. Customs and Border Protection (CBP) to assess, upon further instruction by Commerce, antidumping duties equal to the amount by which the normal value of the merchandise exceeds the export price or constructed export price of the subject merchandise, for all relevant entries of LWS from Vietnam. Antidumping duties will be assessed on unliquidated entries of LWS from Vietnam entered, or withdrawn from warehouse, for consumption on or after October 11, 2018, the date of publication of the LTFV Preliminary Determination,⁴ but will not be assessed on entries occurring after the expiration of the provisional measures period and before publication of the ITC's final affirmative injury determination as further described below.

⁴ See Laminated Woven Sacks from the Socialist Republic of Vietnam: Preliminary Determination of Sales at Less Than Fair Value, 83 FR 51436 (October 11, 2018) (LTFV Preliminary Determination).

Suspension of Liquidation—AD

In accordance with section 736 of the Act, Commerce will instruct CBP to reinstitute suspension of liquidation on all relevant entries of LWS from Vietnam, effective on the date of publication of the ITC's final affirmative injury determination in the Federal Register, and to assess, upon further instruction by Commerce pursuant to section 736(a)(1) of the Act, antidumping duties for each entry of the subject merchandise equal to the amount by which the normal value of the merchandise exceeds the export price or constructed export price of the merchandise. These instructions suspending liquidation will remain in effect until further notice. For each producer and exporter combination, Commerce will also instruct CBP to require cash deposits for estimated antidumping duties equal to the cash deposit rates listed below.

Accordingly, effective on the date of publication of the ITC's final affirmative injury determination, CBP will require, at the same time as an importer of record would normally deposit estimated duties on the subject merchandise, cash deposits based on the rates listed below.⁵ As stated in the LTFV Final Determination, Commerce made certain adjustments for export subsidies from the CVD Final Determination to the estimated weighted-average dumping margin to determine each of the cash deposit rates.

⁵ See section 736(a)(3) of the Act.

Exporter | Producer | Estimated weighted- average dumping margin (percent) | Cash deposit rate (percent)
Duong Vinh Hoa Packaging Company Limited | Duong Vinh Hoa Packaging Company Limited | 109.46 | 108.33
C.P. Packaging (Vietnam) Industry Co., Ltd | C.P. Packaging (Vietnam) Industry Co., Ltd | 109.46 | 108.33
Tan Dai Hung d.b.a. Tan Dai Hung Joint Stock Co. and Tan Dai Hung Plastic Joint Stock Company | Tan Dai Hung d.b.a. Tan Dai Hung Joint Stock Co. and Tan Dai Hung Plastic Joint Stock Company | 109.46 | 108.33
TKMB Joint Stock Company | TKMB Joint Stock Company | 109.46 | 108.33
Trung Dong Corporation | Trung Dong Corporation | 109.46 | 108.33
Vietnam-Wide Entity ⁶ | Vietnam-Wide Entity | 292.61 | 291.48

Provisional Measures—AD

Section 733(d) of the Act states that suspension of liquidation instructions issued pursuant to an affirmative preliminary determination may not remain in effect for more than four months, except where exporters representing a significant proportion of exports of the subject merchandise request Commerce to extend that four-month period to no more than six months. At the request of Duong Vinh Hoa Packaging Company Limited, the exporter that accounts for a significant proportion of LWS from Vietnam, we extended the four-month period to six months.⁷ Commerce published its LTFV Preliminary Determination on October 11, 2018. Therefore, the extended period, beginning on the date of publication of the LTFV Preliminary Determination, ended on April 9, 2019. Pursuant to section 737(b) of the Act, the collection of cash deposits at the rates listed above will begin on the date of publication of the ITC's final affirmative injury determination in the Federal Register.

⁶ The Vietnam-wide entity includes Xinsheng Plastic Industry Co., Ltd.

⁷ See Laminated Woven Sacks from the Socialist Republic of Vietnam: Postponement of Final Determination of Sales at Less than Fair Value Investigation, 83 FR 53452 (October 23, 2018).

Therefore, in accordance with section 733(d) of the Act, Commerce instructed CBP to terminate the suspension of liquidation and to liquidate, without regard to antidumping duties, unliquidated entries of LWS from Vietnam entered, or withdrawn from warehouse, for consumption after April 9, 2019, the date on which the provisional measures expired, through the day preceding the date of publication of the ITC's final affirmative injury determination in the Federal Register. Suspension of liquidation will resume on the date of publication of the ITC's final affirmative injury determination in the Federal Register.

CVD Order

On May 23, 2019, in accordance with section 705(d) of the Act, the ITC notified Commerce of its final determination that an industry in the United States is materially injured within the meaning of section 705(b)(1)(A)(i) of the Act by reason of subsidized imports of LWS from Vietnam.⁸ Therefore, in accordance with section 705(c)(2) of the Act, we are issuing this CVD order. Because the ITC determined that imports of LWS from Vietnam are materially injuring a U.S. industry, unliquidated entries of such merchandise from Vietnam entered, or withdrawn from warehouse, for consumption are subject to the assessment of countervailing duties, as described below.

⁸ See ITC Notification.

As a result of the ITC's final determination, in accordance with section 706(a)(1) of the Act, Commerce will direct CBP to assess, upon further instruction by Commerce, countervailing duties on all relevant entries of LWS from Vietnam entered, or withdrawn from warehouse, for consumption on or after August 13, 2018, the date of publication of the CVD Preliminary Determination ⁹ but will not be assessed on entries occurring after the expiration of the provisional measures period and before publication of the ITC's final affirmative injury determination as further described below.

⁹ See Laminated Woven Sacks from the Socialist Republic of Vietnam: Preliminary Affirmative Countervailing Duty Determination and Alignment of Final Determination with Final Antidumping Duty Determination, 83 FR 39983 (August 13, 2018) (CVD Preliminary Determination).

Suspension of Liquidation—CVD

In accordance with section 706 of the Act, Commerce will instruct CBP to reinstitute suspension of liquidation on all relevant entries of LWS from Vietnam, effective on the date of publication of the ITC's final affirmative injury determination in the Federal Register, and to assess, upon further instruction by Commerce, pursuant to section 706(a)(1) of the Act, countervailing duties for each entry of the subject merchandise in an amount based on the net countervailable subsidy rates for the subject merchandise. These instructions suspending liquidation will remain in effect until further notice. Commerce will also instruct CBP to require cash deposits equal to the amounts as indicated below. Accordingly, effective on the date of publication of the ITC's final affirmative injury determination, CBP will require, at the same time as importers would normally deposit estimated duties on the subject merchandise, a cash deposit for each entry of subject merchandise equal to the subsidy rates listed below.¹⁰ The all-others rate applies to all producers or exporters not specifically listed below, as appropriate.

¹⁰ See section 706(a)(3) of the Act.

Exporter/producer | Subsidy rate (percent)
Duong Vinh Hoa Packaging Company Limited | 3.02
Xinsheng Plastic Industry Co., Ltd | 198.87
All-Others | 3.02

Provisional Measures—CVD

Section 703(d) of the Act states that suspension of liquidation instructions issued pursuant to an affirmative preliminary determination may not remain in effect for more than four months. Commerce published its CVD Preliminary Determination on August 13, 2018. Therefore, the provisional measures period, beginning on the date of publication of the CVD Preliminary Determination, ended on December 11, 2018. Pursuant to section 707(b) of the Act, the collection of cash deposits at the rate listed above will begin on the date of publication of the ITC's final injury determination in the Federal Register.

Therefore, in accordance with section 703(d) of the Act, Commerce instructed CBP to terminate the suspension of liquidation and to liquidate, without regard to countervailing duties, unliquidated entries of LWS from Vietnam entered, or withdrawn from warehouse, for consumption on or after December 11, 2018, the date on which the provisional measures expired, through the day preceding the date of publication of the ITC's final affirmative injury determination in the Federal Register. Suspension of liquidation will resume on the date of publication of the ITC's final affirmative injury determination in the Federal Register.

Notification to Interested Parties

This notice constitutes the AD and CVD orders with respect to LWS from Vietnam pursuant to sections 706(a) and 736(a) of the Act. Interested parties can find an updated list of orders currently in effect by either visiting http://enforcement.trade.gov/stats/iastats1.html.

These orders are published in accordance with sections 706(a) and 736(a) of the Act, and 19 CFR 351.211(b).

Dated: May 28, 2019.
Jeffrey I. Kessler,
Assistant Secretary for Enforcement and Compliance.

Appendix

Scope of the Orders

The merchandise covered by these orders is laminated woven sacks. Laminated woven sacks are bags consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP), polyester (PET), polyethylene (PE), nylon, or any film suitable for printing, or to an exterior ply of paper; printed; displaying, containing, or comprising three or more visible colors (e.g., laminated woven sacks printed with three different shades of blue would be covered by the scope), not including the color of the woven fabric; regardless of the type of printing process used; with or without lining; with or without handles; with or without special closing features (including, but not limited to, closures that are sewn, glued, easy-open (e.g., tape or thread), re-closable (e.g., slider, hook and loop, zipper), hot-welded, adhesive-welded, or press-to-close); whether finished or unfinished (e.g., whether or not closed on one end and whether or not in roll form, including, but not limited to, sheets, lay-flat, or formed in tubes); not exceeding one kilogram in actual weight. Laminated woven sacks produced in the Socialist Republic of Vietnam are subject to the scope regardless of the country of origin of the fabric used to make the sack.

The scope of these orders excludes laminated woven sacks having each of the following physical characteristics: (1) No side greater than 24 inches, (2) weight less than 100 grams, (3) an open top that is neither sealable nor closable, the rim of which is hemmed or sewn around the entire circumference, (4) carry handles sewn on the open end, (5) side gussets, and (6) either a bottom gusset or a square or rectangular bottom. The excluded items with the above-mentioned physical characteristics may be referred to as reusable shopping bags.

Subject laminated woven sacks are currently classifiable under Harmonized Tariff Schedule of the United States (HTSUS) subheadings 6305.33.0040 and 6305.33.0080. If entered with plastic coating on both sides of the fabric consisting of woven polypropylene strip and/or woven polyethylene strip, laminated woven sacks may be classifiable under HTSUS subheadings 3923.21.0080, 3923.21.0095, and 3923.29.0000. If entered not closed on one end or in roll form (including, but not limited to, sheets, lay-flat tubing, and sleeves), laminated woven sacks may be classifiable under other HTSUS subheadings, including 3917.39.0050, 3921.90.1100, 3921.90.1500, and 5903.90.2500. If the polypropylene strips and/or polyethylene strips making up the fabric measure more than 5 millimeters in width, laminated woven sacks may be classifiable under other HTSUS subheadings including 4601.99.0500,4601.99.9000, and 4602.90.0000. Although HTSUS subheadings are provided for convenience and customs purposes, the written description of the scope is dispositive.

[FR Doc. 2019-11579 Filed 6-3-19; 8:45 am]

BILLING CODE 3510-DS-P